DEPARTMENT OF COMMERCE

National Oceanic and Atmospheric Administration

[RTID-0648-XV176]

Efficient Permitting of Ocean Research, Mapping, and Characterizing Activities

AGENCY: National Oceanic and Atmospheric Administration.

ACTION: Notice; Request for information.

SUMMARY: On behalf of the Ocean Policy Committee, Ocean Resource Management Subcommittee and the Office of Science and Technology Policy (OSTP) and the Council on Environmental Quality (CEQ) as Co-Chairs of the Ocean Policy Committee, the National Oceanic and Atmospheric Administration (NOAA) requests input from all interested parties on the permitting process for ocean research, mapping, and characterization activities. The public input provided in response to this Request for Information (RFI) will inform the Ocean Policy Committee as it works with Federal agencies and other stakeholders to increase the efficiency of the permitting and authorization processes for ocean research, mapping, and characterization activities across agencies.

DATES: Interested persons are invited to submit comments on or before March 12, 2020.

ADDRESSES: Responses should be submitted via email to oceanresearch@ostp.eop.gov. Include “RFI Response: Efficient Permitting of Mapping, Exploring, and Characterizing Activities” in the subject line of the message.

Instructions: Response to this RFI is voluntary. Respondents need not reply to all questions listed. For all submissions, clearly indicate which questions are being answered. Email attachments will be accepted in plain text, Microsoft Word, or Adobe PDF formats only. Each individual or institution is requested to submit only one response. OSTP may post responses to this RFI, without change, on a Federal website. NOAA, therefore, requests that no business proprietary information, copyrighted information, or personally identifiable information be submitted in response to this RFI. Please note that the U.S. Government will not pay for response preparation, or for the use of any information contained in the response.

FOR FURTHER INFORMATION CONTACT: Brock Eckel, OSTP, 202 456-4336.

SUPPLEMENTARY INFORMATION: The U.S. Government, in coordination with non-U.S. Government entities, conducts hundreds of ocean exploration, mapping, and research activities every year across the United States Exclusive Economic Zone (U.S. EEZ). These activities improve our understanding of our oceans, including by identifying potential new sources of critical minerals, biopharmaceuticals, energy, and other resources. These activities frequently require multiple environmental reviews, consultations, permits, and other authorizations under Federal laws and regulations that protect resources such as maritime heritage sites and sensitive or protected marine natural resources.

Presidential Memorandum, Ocean Mapping of the United States Exclusive Economic Zone and the Shoreline and Nearshore of Alaska, 84 FR 64699 (Nov. 11, 2019), directs the Ocean Policy Committee, through its Ocean Resource Management Subcommittee, to identify opportunities and recommend actions to the Director of the OSTP and the Chairman of the CEQ that will increase the efficiency of the permitting and authorization processes for ocean research, mapping, and characterization activities across agencies. The Ocean Policy Committee is soliciting public input through this RFI to obtain information from a wide range of stakeholders, including academia, private industry, and other relevant organizations and institutions, in order to inform the Ocean Policy Committee as it prepares to identify these opportunities and develop recommended actions.

Questions To Inform Development of the Recommendations

Through this RFI, the Ocean Policy Committee seeks responses to the following questions to identify opportunities and inform development of recommendations that will increase the efficiency of the permitting and authorization processes for ocean research, mapping, and characterization activities that take place in the U.S. EEZ.

1. Please describe any challenges related to identifying and obtaining the necessary information, permits, and authorizations required to conduct ocean research, mapping, and characterization activities in the U.S. EEZ, particularly with respect to applicable regulations and agency policies.

2. Please describe opportunities to increase the efficiency of permitting and authorization processes for ocean research, mapping, and characterization activities in the U.S. EEZ.

3. What innovative tools, platforms, and technologies could increase the efficiency of permitting, reporting, and authorization processes for ocean research, mapping, and characterization activities in the U.S. EEZ? To the extent innovative capabilities already exist, but are not being effectively used, what are the barriers to adopting them?

4. After authorization is obtained, are there any reporting or paperwork requirements that are unduly burdensome or lack utility? If yes, please describe such requirements and provide suggestions for addressing them.

5. Is there any additional information related to permitting and authorization processes for ocean research, mapping, and characterization activities in the U.S. EEZ, not requested above, that you believe the Ocean Policy Committee should consider?

Dated: February 3, 2020.
Timothy C. Gallaudet,
Assistant Secretary of Commerce for Oceans and Atmosphere, Deputy NOAA Administrator, Department of Commerce.

[FR Doc. 2020-02627 Filed 2-10-20; 8:45 am]

BILLING CODE 3270-F8-P